DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on January 30-31, February 1-3, 2006, from 9 a.m. to 4:30 p.m.

ADDRESSES: The meeting will be held at Conference Rooms, 1828 L Street, NW., Suite 805, Washington, DC.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub.L. 92-463, 5 U.S.C., Appendix 2), notice is hereby given for a Special Committee 202 Portable Electronic Devices meeting. The agenda will include:

• January 30:

• Working Groups (WG) 1 through 4 meet.

• WG-1, PED Characterization, Garmin Room

• WG-2, Aircraft Path Loss and Test, with WG-3, Aircraft Susceptibility, MacIntosh-NBAA-Hilton/ATA Room

• WG-4, Risk Assessment, Mitigation, and Process, Colson Board Room

• January 31 and February 2:

• Opening Plenary Session (Welcome and Introductory Remarks, Review Agenda, Review/Approve previous Common Plenary Summary, Review Open Action Items)

• Update from Regulatory Agencies (FAA, UK-CAA, Canadian TSB, FCC or other)

• Update from CEA PEDs Working Group by Doug Johnson of CEA

• Update on CTIA Task Force on cell phones on airborne aircraft by Paul Guckian of QUALCOMM

• Report on updates to GPS Sensitivity data of Table 6 by Robert Erlandson of OST Global

• Report on cell phone demonstration on the 777-200LR Worldliner flight by Peter Tuggey of Aeromobile

• Considerations to develop recommendation on Guidance for Airplane Design and Certification in support of Phase 2 TOR requirements by Dave Walen FAA CSTA EMI and Grey Dunn FAA ANM-111

• Overview of comments received to proposed changes for Interim DO-294 update

• Plenary consensus on process to complete interim DO-294 document update, Working Groups comment disposition validation, action items to Working Groups, etc.

• Break-out sessions for Working Groups:

• Working Groups (WG) 1 through 5 meet.

• WG-1, PED Characterization, Garmin Room

• WG-2, Aircraft Path Loss and Test, with WG-3, Aircraft Susceptibility, MacIntosh-NBAA Hilton/ATA Room

• WG-4, Risk Assessment, Mitigation, and Process, Colson Board Room

• WG-5, Airplane Design and Certification Guidance, ARINC Conference Room

• Chairmen's strategy session with Work Group Leaders, MacIntosh-NBAA and Hilton-ATA Rooms Process check and readiness review for DO-294 document update

• February 2:

• Opening Remarks and Process Check

• Working Groups Report out on (Disposition of FRAC comments to DO-294 Interim document update; Issues identified, with recommendation to Plenary for consensus on closure of issues; Recommendations for Plenary consensus on document update final version; Schedule and TOR compliance assessment; Phase 2 work remaining: work plan and schedule)

• WG-1 (PEDs characterization, test and evaluation)

• WG-2 (Aircraft test and analysis)

• WG-3 (Aircraft systems susceptibility)

• Proposal for assessing aircraft systems susceptibility to Phase 2 technologies.

• WG-4 (Risk Assessment, Practical application, and final documentation)

• Collaboration with EUROCAE WG58

• WG-5 (Recommended Guidance for Airplane Design and Certification)

• Plenary consensus on Interim DO-294 update document recommendation to publish

• Updates to Phase 2 work statement, committee structure, work plan and schedule, including: Plan for access to material and organization of data in appendix CD for Phase 2 document Working Groups' teleconference and meeting schedule, plan for Phase 2 work completion

• Closing Session (Other Business, Date and Place of Next Meeting (April 4-6, 2006, Fourteenth Plenary at RTCA; July 10-14, 2006, Fifteenth Plenary at RTCA; October 16-20, 2006, Sixteenth and final Plenary at RTCA, Closing Remarks, Adjourn)

• Working Groups to complete action items and complete interim update DO-294 for recommendation to PMC to publish

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 23, 2005.
Natalie Ogletree,
FAA General Engineer, RTCA Advisory Committee

[FR Doc. 05-24699 Filed 12-30-05; 8:45 am]

BILLING CODE 4910-13-M